ENVIRONMENTAL PROTECTION AGENCY

[EPA-HQ-OA-2023-0393; FRL-12211-01-OMS]

Agency Information Collection Activities; Submission to the Office of Management and Budget for Review and Approval; Comment Request; Greenhouse Gas Reduction Fund Accomplishment Reporting

AGENCY: Environmental Protection Agency (EPA).

ACTION: Notice.

SUMMARY: The Environmental Protection Agency (EPA) has submitted an information collection request (ICR), Greenhouse Gas Reduction Fund (GGRF) Accomplishment Reporting (EPA ICR Number 2783.01, OMB Control Number 2090-New) to the Office of Management and Budget (OMB) for review and approval in accordance with the Paperwork Reduction Act. This is a request for approval of a new collection. Public comments were previously requested via the Federal Register on February 6, 2024, during a 60-day comment period. This notice allows for an additional 30 days for public comments.

DATES: Comments may be submitted on or before September 25, 2024.

ADDRESSES: Submit your comments, referencing Docket ID Number EPA-HQ-OA-2023-0393, to EPA online using www.regulations.gov (our preferred method), by email to Docket_OMS@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Julie Zavala, Office of the GGRF, Office of the Administrator, Environmental Protection Agency, 1200 Pennsylvania Ave. NW, Washington, DC 20460; telephone number: 202-564-0138; email address: ggrf@epa.gov.

SUPPLEMENTARY INFORMATION: This is a request for approval of a new collection. An agency may not conduct or sponsor and a person is not required to respond to a collection of information unless it displays a currently valid OMB control number.

Public comments were previously requested via the Federal Register on February 6, 2024, during a 60-day comment period (89 FR 8198). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the collection of information from those organizations that receive grants funding from the Environmental Protection Agency (EPA) under the authority of section 134 of the Clean Air Act (CAA). CAA 134 was enacted as part of the Inflation Reduction Act (IRA) and authorizes EPA to make competitive grants to states, municipalities, Tribal governments, and eligible non-profit recipients to implement the Greenhouse Gas Reduction Fund, a historic $27 billion investment to combat the climate crisis by mobilizing financing and private capital for greenhouse gas- and air pollution-reducing projects in communities across the country. Within the GGRF, EPA designed three programs; the National Clean Investment Fund (NCIF), Clean Communities Investment Accelerator (CCIA), and Solar for All (SFA). This ICR covers the collection of information under awards for all three programs. EPA will use information from these reports as part of program-wide public reporting, except to the extent such information includes CBI or PII pursuant to 2 CFR 200.338. Information claimed as CBI in accordance with this Notice will be disclosed only to the extent, and by means of the procedures, set forth in 40 CFR part 2, subpart B.

Form numbers: None.

Respondents/affected entities: Recipients of grants funding from the Environmental Protection Agency (EPA) under the authority of section 134 of the Clean Air Act (CAA). CAA 134 was enacted as part of the Inflation Reduction Act (IRA) and authorizes EPA to make competitive grants to states, municipalities, Tribal governments, and eligible non-profit recipients to implement the Greenhouse Gas Reduction Fund.

Respondent's obligation to respond: required to obtain or retain a benefit under section 134 of the Clean Air Act (CAA).

Estimated number of respondents: NCIF: 3, CCIA: 3, SFA: 60, Sub-recipients: 25 (93 total).

Frequency of response: Quarterly, semi-annually, annually, or one-time response, depending on instrument and respondent.

Total estimated burden: 560,131 hours (per year). Burden is defined at 5 CFR 1320.03(b).

Total estimated cost: $37,450,170 (per year), which includes $8,859,143 annualized capital or operation & maintenance costs.

Changes in the estimates: This is a new collection therefore there is no change in burden.

Courtney Kerwin,
Director, Information Engagement Division.

[FR Doc. 2024-19002 Filed 8-23-24; 8:45 am]

BILLING CODE 6560-50-P